DEPARTMENT OF ENERGY

Federal Energy Regulatory Commission

Combined Notice of Filings #1

Take notice that the Commission received the following electric rate filings:

Docket Numbers: ER12-2381-001.

Applicants: MP2 Energy NE LLC.

Description: Notice of Change in Status of the MP2 Energy NE LLC.

Filed Date: 10/28/14.

Accession Number: 20141028-5014.

Comments Due: 5 p.m. ET 11/18/14.

Docket Numbers: ER13-310-001.

Applicants: MP2 Energy NJ LLC.

Description: Notice of Change in Status of the MP2 Energy NJ LLC.

Filed Date: 10/28/14.

Accession Number: 20141028-5021.

Comments Due: 5 p.m. ET 11/18/14.

Docket Numbers: ER13-1069-004.

Applicants: MP2 Energy LLC.

Description: Notice of Change in Status of the MP2 Energy LLC.

Filed Date: 10/28/14.

Accession Number: 20141028-5016.

Comments Due: 5 p.m. ET 11/18/14.

Docket Numbers: ER15-201-000.

Applicants: Pacific Gas and Electric Company.

Description: § 205(d) rate filing per 35.13(a)(2)(iii): CCSF IA—47th Quarterly Filing of Facilities Agreements to be effective 9/30/2014.

Filed Date: 10/28/14.

Accession Number: 20141028-5002.

Comments Due: 5 p.m. ET 11/18/14.

Docket Numbers: ER15-202-000.

Applicants: Southern California Edison Company.

Description: § 205(d) rate filing per 35.13(a)(2)(iii): UFA for the Copper Mountain Solar 4 Project to be effective 10/29/2014.

Filed Date: 10/28/14.

Accession Number: 20141028-5003.

Comments Due: 5 p.m. ET 11/18/14.

Docket Numbers: ER15-203-000.

Applicants: Evergreen Gen Lead, LLC.

Description: Baseline eTariff Filing per 35.1: Filing of Rate Schedule and Request for Waiver to be effective 12/28/2014.

Filed Date: 10/28/14.

Accession Number: 20141028-5059.

Comments Due: 5 p.m. ET 11/18/14.

Docket Numbers: ER15-204-000.

Applicants: Idaho Power Company.

Description: § 205(d) rate filing per 35.13(a)(2)(iii): SA No. 4.335 Construction Agreement—IPC and NorthWestern Re Peterson Flats to be effective 12/31/9998.

Filed Date: 10/28/14.

Accession Number: 20141028-5087.

Comments Due: 5 p.m. ET 11/18/14.

Docket Numbers: ER15-205-000.

Applicants: Southwest Power Pool, Inc.

Description: § 205(d) rate filing per 35.13(a)(2)(iii): 2403R1 Sunflower-ITC Interconnection Agreement to be effective 12/31/9998.

Filed Date: 10/27/14.

Accession Number: 20141027-5217.

Comments Due: 5 p.m. ET 11/17/14.

Docket Numbers: ER15-206-000.

Applicants: Southwest Power Pool, Inc.

Description: § 205(d) rate filing per 35.13(a)(2)(iii): 2252R3 Cottonwood Wind Project GIA to be effective 10/14/2014.

Filed Date: 10/28/14.

Accession Number: 20141028-5111.

Comments Due: 5 p.m. ET 11/18/14.

Docket Numbers: ER15-207-000.

Applicants: Milford Wind Corridor Phase II, LLC.

Description: Initial rate filing per 35.12 Filing of Tenant in Common Agreements to be effective 12/28/2014.

Filed Date: 10/28/14.

Accession Number: 20141028-5135.

Comments Due: 5 p.m. ET 11/18/14.

Docket Numbers: ER15-208-000.

Applicants: PJM Interconnection, L.L.C.

Description: § 205(d) rate filing per 35.13(a)(2)(iii): Service Agreement No. 2934; Queue No. W2-080 to be effective 10/5/2014.

Filed Date: 10/28/14.

Accession Number: 20141028-5139.

Comments Due: 5 p.m. ET 11/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2014.
Nathaniel J. Davis, Sr.,
Deputy Secretary.

[FR Doc. 2014-26153 Filed 11-3-14; 8:45 am]

BILLING CODE 6717-01-P